DEPARTMENT OF ENERGY

Federal Energy Regulatory Commission

[Project No. 14212-000]

Albion Hydro, LLC; Notice of Preliminary Permit Application Accepted for Filing and Soliciting Comments, Motions To Intervene, and Competing Applications

On June 13, 2011, Albion Hydro, LLC, filed an application for a preliminary permit, pursuant to section 4(f) of the Federal Power Act (FPA), proposing to study the feasibility of the Albion Hydropower Project (Albion Dam Project or project) to be located on the Blackstone River, in the Town of Cumberland, in Providence County, Rhode Island. The sole purpose of a preliminary permit, if issued, is to grant the permit holder priority to file a license application during the permit term. A preliminary permit does not authorize the permit holder to perform any land-disturbing activities or otherwise enter upon lands or waters owned by others without the owners' express permission.

The proposed run-of-the-river project would consist of: (1) The existing 400-foot-long, 25-foot-high Albion Dam, which is owned by the Rhode Island Department of Transportation and includes a 300-foot-long overflow spillway and a two-gated outlet structure; (2) an existing 55 acre reservoir having a normal storage capacity of about 235 acre-feet (ac-ft) at elevation of 87.5 feet and a maximum storage capacity of about 347 ac-ft; (3) a new intake on the upstream face of the existing dam; (4) a new powerhouse that would be integrated into the existing dam at the existing outlet structure containing a single 1.2 megawatt bulb turbine-generating unit; (5) a new 600-foot-long, 13.8-kilovolt transmission line extending from the new switchyard/substation to the existing Bell Atlantic utility pole number 31-1 in Cumberland, Rhode Island; and (6) fish passage/protection measures. The estimated annual generation of the project would be 4.0 gigawatt-hours.

Applicant Contact: Mr. Bruce DiGennaro, Managing Partner, Essex Energy Partners, LLC, 27 Vaughan Ave., Newport, Rhode Island 02840; phone: (401) 619-4872.

FERC Contact: John Ramer; phone: (202) 502-8969.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14212-000) in the docket number field to access the document. For assistance, contact FERC Online Support.

Dated: June 21, 2011.
Kimberly D. Bose,
Secretary.

[FR Doc. 2011-16179 Filed 6-27-11; 8:45 am]

BILLING CODE 6717-01-P